DEPARTMENT OF ENERGY

Federal Energy Regulatory Commission

Combined Notice of Filings #1

Take notice that the Commission received the following electric corporate filings:

Docket Numbers: EC22-89-000.

Applicants: Sapphire Sky Wind Energy LLC, WEC Infrastructure LLC.

Description: Joint Application for Authorization Under Section 203 of the Federal Power Act of Sapphire Sky Wind Energy LLC, et al.

Filed Date: 7/13/22.

Accession Number: 20220713-5129.

Comment Date: 5 p.m. ET 8/3/22.

Take notice that the Commission received the following exempt wholesale generator filings:

Docket Numbers: EG22-166-000.

Applicants: Allora Solar, LLC.

Description: Allora Solar, LLC submits Notice of Self-Certification of Exempt Wholesale Generator Status.

Filed Date: 7/13/22.

Accession Number: 20220713-5082.

Comment Date: 5 p.m. ET 8/3/22.

Docket Numbers: EG22-167-000.

Applicants: Bulldog Solar, LLC.

Description: Bulldog Solar, LLC submits Notice of Self-Certification of Exempt Wholesale Generator Status.

Filed Date: 7/13/22.

Accession Number: 20220713-5083.

Comment Date: 5 p.m. ET 8/3/22.

Docket Numbers: EG22-168-000.

Applicants: Cabin Creek Solar, LLC.

Description: Cabin Creek Solar, LLC submits Notice of Self-Certification of Exempt Wholesale Generator Status.

Filed Date: 7/13/22.

Accession Number: 20220713-5085.

Comment Date: 5 p.m. ET 8/3/22.

Docket Numbers: EG22-169-000.

Applicants: PGR 2021 Lessee 12, LLC.

Description: Self-Certification of Exempt Wholesale Generator of PGR 2021 Lessee 12, LLC.

Filed Date: 7/13/22.

Accession Number: 20220713-5084.

Comment Date: 5 p.m. ET 8/3/22.

Docket Numbers: EG22-170-000.

Applicants: Gunsight Solar, LLC.

Description: Gunsight Solar, LLC submits Notice of Self-Certification of Exempt Wholesale Generator Status.

Filed Date: 7/13/22.

Accession Number: 20220713-5086.

Comment Date: 5 p.m. ET 8/3/22.

Docket Numbers: EG22-171-000.

Applicants: PGR 2021 Lessee 9, LLC.

Description: PGR 2021 Lessee 9, LLC submits Notice of Self-Certification of Exempt Wholesale Generator Status.

Filed Date: 7/13/22.

Accession Number: 20220713-5089.

Comment Date: 5 p.m. ET 8/3/22.

Docket Numbers: EG22-172-000.

Applicants: PGR 2021 Lessee 11, LLC.

Description: PGR 2021 Lessee 11, LLC submits Notice of Self-Certification of Exempt Wholesale Generator Status.

Filed Date: 7/13/22.

Accession Number: 20220713-5090.

Comment Date: 5 p.m. ET 8/3/22.

Docket Numbers: EG22-173-000.

Applicants: PGR 2021 Lessee 13, LLC.

Description: PGR 2021 Lessee 13, LLC submits Notice of Self-Certification of Exempt Wholesale Generator Status.

Filed Date: 7/13/22.

Accession Number: 20220713-5096.

Comment Date: 5 p.m. ET 8/3/22.

Docket Numbers: EG22-174-000.

Applicants: PGR 2021 Lessee 15, LLC.

Description: PGR 2021 Lessee 15, LLC submits Notice of Self-Certification of Exempt Wholesale Generator Status.

Filed Date: 7/13/22.

Accession Number: 20220713-5097.

Comment Date: 5 p.m. ET 8/3/22.

Docket Numbers: EG22-175-000.

Applicants: PGR 2021 Lessee 19, LLC.

Description: PGR 2021 Lessee 19, LLC submits Notice of Self-Certification of Exempt Wholesale Generator Status.

Filed Date: 7/13/22.

Accession Number: 20220713-5098.

Comment Date: 5 p.m. ET 8/3/22.

Docket Numbers: EG22-176-000.

Applicants: Phobos Solar, LLC.

Description: Phobos Solar, LLC submits Notice of Self-Certification of Exempt Wholesale Generator Status.

Filed Date: 7/13/22.

Accession Number: 20220713-5099.

Comment Date: 5 p.m. ET 8/3/22.

Docket Numbers: EG22-177-000.

Applicants: Sonny Solar, LLC.

Description: Sonny Solar, LLC submits Notice of Self-Certification of Exempt Wholesale Generator Status.

Filed Date: 7/13/22.

Accession Number: 20220713-5100.

Comment Date: 5 p.m. ET 8/3/22.

Take notice that the Commission received the following electric rate filings:

Docket Numbers: ER21-65-000.

Applicants: Tri-State Generation and Transmission Association, Inc.

Description: Refund Report for August 2020 of Tri-State Generation and Transmission Association, Inc.

Filed Date: 7/12/22.

Accession Number: 20220712-5195.

Comment Date: 5 p.m. ET 8/2/22.

Docket Numbers: ER21-434-000.

Applicants: Nevada Power Company.

Description: Refund Report: NVE Refund Report to be effective N/A.

Filed Date: 7/13/22.

Accession Number: 20220713-5157.

Comment Date: 5 p.m. ET 8/3/22.

Docket Numbers: ER22-2364-000.

Applicants: Midcontinent Independent System Operator, Inc.

Description: § 205(d) Rate Filing: 2022-07-13_SA 3180 Dunns Bridge Solar-NIPSCO 3rd Rev GIA (J643 J847) to be effective 7/6/2022.

Filed Date: 7/13/22.

Accession Number: 20220713-5030.

Comment Date: 5 p.m. ET 8/3/22.

Docket Numbers: ER22-2365-000.

Applicants: Midcontinent Independent System Operator, Inc., Ameren Illinois Company.

Description: § 205(d) Rate Filing: Midcontinent Independent System Operator, Inc. submits tariff filing per 35.13(a)(2)(iii: 2022-07-13_SA 3861 Ameren-ComEd Construction Agreement to be effective 9/12/2022.

Filed Date: 7/13/22.

Accession Number: 20220713-5049.

Comment Date: 5 p.m. ET 8/3/22.

Docket Numbers: ER22-2366-000.

Applicants: ISO New England Inc., New England Power Pool Participants Committee.

Description: § 205(d) Rate Filing: ISO New England Inc. submits tariff filing per 35.13(a)(2)(iii: ISO-NE/NEPOOL; Info Sharing in Response to Cyber Sec Exigency Under Info Policy to be effective 9/11/2022.

Filed Date: 7/13/22.

Accession Number: 20220713-5052.

Comment Date: 5 p.m. ET 8/3/22.

Docket Numbers: ER22-2367-000.

Applicants: GenConn Middletown LLC.

Description: Initial rate filing: Submission of Rate Schedule for GenConn Middletown LLC to be effective 9/12/2022.

Filed Date: 7/13/22.

Accession Number: 20220713-5068.

Comment Date: 5 p.m. ET 8/3/22.

Docket Numbers: ER22-2368-000.

Applicants: PJM Interconnection, L.L.C.

Description: § 205(d) Rate Filing: Amendment to ISA, Service Agreement No. 5979; Queue No. AD2-085 to be effective 2/3/2021.

Filed Date: 7/13/22.

Accession Number: 20220713-5070.

Comment Date: 5 p.m. ET 8/3/22.

Docket Numbers: ER22-2369-000.

Applicants: Midcontinent Independent System Operator, Inc., Ameren Illinois Company.

Description: § 205(d) Rate Filing: Midcontinent Independent System Operator, Inc. submits tariff filing per 35.13(a)(2)(iii: 2022-07-13_SA 3862 Ameren-ComEd As Available Agreement to be effective 9/12/2022.

Filed Date: 7/13/22.

Accession Number: 20220713-5080.

Comment Date: 5 p.m. ET 8/3/22.

Docket Numbers: ER22-2370-000.

Applicants: Alabama Power Company, Georgia Power Company, Mississippi Power Company.

Description: § 205(d) Rate Filing: Alabama Power Company submits tariff filing per 35.13(a)(2)(iii: Dale County Solar Project (Hybrid Project) LGIA Filing to be effective 7/13/2022.

Filed Date: 7/13/22.

Accession Number: 20220713-5120.

Comment Date: 5 p.m. ET 8/3/22.

Docket Numbers: ER22-2371-000.

Applicants: Southwest Power Pool, Inc.

Description: § 205(d) Rate Filing: 3983 Flat Ridge 5 Wind Energy GIA to be effective 7/7/2022.

Filed Date: 7/13/22.

Accession Number: 20220713-5144.

Comment Date: 5 p.m. ET 8/3/22.

Docket Numbers: ER22-2372-000.

Applicants: Southwest Power Pool, Inc.

Description: § 205(d) Rate Filing: 3984 Cowskin Solar Energy GIA to be effective 7/7/2022.

Filed Date: 7/13/22.

Accession Number: 20220713-5148.

Comment Date: 5 p.m. ET 8/3/22.

Docket Numbers: ER22-2373-000.

Applicants: Southwest Power Pool, Inc.

Description: § 205(d) Rate Filing: 3716R1 Caddo Wind, LLC GIA to be effective 6/16/2022.

Filed Date: 7/13/22.

Accession Number: 20220713-5152.

Comment Date: 5 p.m. ET 8/3/22.

Docket Numbers: ER22-2374-000.

Applicants: Florida Power & Light Company.

Description: § 205(d) Rate Filing: FPL Amended Interconnection Agreement, Transfer of Records and Cancellation to be effective 12/31/9998.

Filed Date: 7/13/22.

Accession Number: 20220713-5154.

Comment Date: 5 p.m. ET 8/3/22.

Docket Numbers: ER22-2375-000.

Applicants: Gulf Power Company.

Description: Tariff Amendment: Notice of Cancellation—Interconnection Agreement No. 2 to be effective 12/31/9998.

Filed Date: 7/13/22.

Accession Number: 20220713-5156.

Comment Date: 5 p.m. ET 8/3/22.

Take notice that the Commission received the following electric securities filings:

Docket Numbers: ES22-52-000.

Applicants: Wheeling Power Company.

Description: Application Under Section 204 of the Federal Power Act for Authorization to Issue Securities of Wheeling Power Company.

Filed Date: 7/13/22.

Accession Number: 20220713-5140.

Comment Date: 5 p.m. ET 8/3/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2022.
Debbie-Anne A. Reese,
Deputy Secretary.

[FR Doc. 2022-15352 Filed 7-18-22; 8:45 am]

BILLING CODE 6717-01-P